DEPARTMENT OF HOUSING AND URBAN DEVELOPMENT

[Docket No. FR-5275-N-03]

Native American Housing Assistance and Self-Determination Reauthorization Act of 2008: Notice of Proposed Membership of Negotiated Rulemaking Committee

AGENCY: Office of the Assistant Secretary for Public and Indian Housing, HUD.

ACTION: Notice.

SUMMARY: On March 2, 2009, HUD published a Federal Register notice requesting nominations for membership on the negotiated rulemaking committee that will develop regulatory changes to programs authorized under the Native American Housing Assistance and Self-Determination Act of 1996 (NAHASDA). Changes to these programs were made by the Native American Housing Assistance and Self-Determination Reauthorization Act of 2008, which also directs that HUD undertake negotiated rulemaking to implement the statutory revisions. In accordance with section 564 of the Negotiated Rulemaking Act, this notice establishes the committee, announces the names and affiliations of the committee's proposed members, requests public comment on the committee and its proposed membership, explains how additional nominations for committee membership may be submitted, and provides other information regarding the negotiated rulemaking process.

DATES: Comment Due Date: October 23, 2009.

ADDRESSES: Interested persons are invited to submit comments regarding this notice to the Regulations Division, Office of General Counsel, Department of Housing and Urban Development, 451 Seventh Street, SW., Room 10276, Washington, DC 20410-0500. Communications must refer to the above docket number and title. There are two methods for submitting public comments. All submissions must refer to the above docket number and title.

1. Submission of Comments by Mail. Comments may be submitted by mail to the Regulations Division, Office of General Counsel, Department of Housing and Urban Development, 451 Seventh Street, SW., Room 10276, Washington, DC 20410-0500.

2. Electronic Submission of Comments. Interested persons may submit comments electronically through the Federal eRulemaking Portal at http://www.regulations.gov. HUD strongly encourages commenters to submit comments electronically. Electronic submission of comments allows the commenter maximum time to prepare and submit a comment, ensures timely receipt by HUD, and enables HUD to make them immediately available to the public. Comments submitted electronically through the http://www.regulations.gov Web site can be viewed by other commenters and interested members of the public. Commenters should follow the instructions provided on that site to submit comments electronically.

Note: To receive consideration as public comments, comments must be submitted through one of the two methods specified above. Again, all submissions must refer to the docket number and title of the rule.

No Facsimile Comments. Facsimile (FAX) comments are not acceptable.

Public Inspection of Public Comments. All properly submitted comments and communications submitted to HUD will be available for public inspection and copying between 8 a.m. and 5 p.m. weekdays at the above address. Due to security measures at the HUD Headquarters building, an advance appointment to review the public comments must be scheduled by calling the Regulations Division at 202-708-3055 (this is not a toll-free number). Individuals with speech or hearing impairments may access this number via TTY by calling the Federal Information Relay Service at 800-877-8339. Copies of all comments submitted are available for inspection and downloading at http://www.regulations.gov.

FOR FURTHER INFORMATION CONTACT: Rodger Boyd, Deputy Assistant Secretary for Native American Programs, Room 4126, Office of Public and Indian Housing, Department of Housing and Urban Development, 451 Seventh Street, SW., Washington, DC 20410, telephone number: 202-401-7914 (this is not a toll-free number). Hearing- or speech-impaired individuals may access this number via TTY by calling the toll-free Federal Information Relay Service at 1-800-877-8339.

SUPPLEMENTARY INFORMATION:

I. Background

The Native American Housing Assistance and Self-Determination Act of 1996 (25 U.S.C. 4101 et seq.) (NAHASDA) changed the way that housing assistance is provided to Native Americans. NAHASDA eliminated several separate assistance programs and replaced them with a single block grant program, known as the Indian Housing Block Grant (IHBG) program. In addition, title VI of NAHASDA authorizes Federal guarantees for financing of certain tribal activities (Title VI Loan Guarantee Program). The regulations governing the IHBG and Title VI Loan Guarantee programs are located in part 1000 of HUD's regulations in title 24 of the Code of Federal Regulations. In accordance with section 106 of NAHASDA, HUD developed the regulations with active tribal participation and using the procedures of the Negotiated Rulemaking Act of 1996 (5 U.S.C. 561-570).

The Native American Housing Assistance and Self-Determination Reauthorization Act of 2008 (Pub. L. 110-411, approved October 14, 2008) (2008 Reauthorization Act) reauthorizes NAHASDA through 2013 and makes a number of amendments to the statutory requirements governing the IHBG and Title VI Loan Guarantee programs. The 2008 Reauthorization Act amends section 106 of NAHASDA to provide that HUD shall “initiate a negotiated rulemaking in accordance with this section by not later than 90 days after enactment of the” 2008 Reauthorization Act.

On January 12, 2009 (74 FR 1227), HUD published a notice in the Federal Register announcing the initiation of the negotiated rulemaking required by the 2008 Reauthorization Act. On March 2, 2009 (74 FR 9100), HUD published another notice in the Federal Register soliciting nominations for membership on the negotiated rulemaking committee. The notice provided that the negotiated rulemaking committee must consist of representatives of interests that are potentially affected by the rulemaking, such as tribally designated housing entities, elected officials of tribal governments, and HUD representatives. It is not required that each potentially affected organization or entity necessarily have its own representative. However, HUD must be satisfied that the group as a whole reflects a geographically diverse cross-section of small, medium, and large Indian tribes.

II. The Negotiated Rulemaking Committee

This notice establishes the negotiated rulemaking committee, as required by section 105 of the 2008 Reauthorization Act, and announces the proposed membership of the negotiated rulemaking committee. In making its proposed selections for membership on the negotiated rulemaking committee, HUD's goal was to establish a committee whose membership reflects a balanced representation of Indian tribes. Selections were based on those nominees who met the eligibility criteria for membership contained in the March 2, 2009, Federal Register notice, and HUD is satisfied that the proposed membership reflects a geographically diverse cross-section of small, medium, and large Indian tribes. In addition to the tribal members of the committee, there will be one or more HUD representatives on the negotiated rulemaking committee. After careful consideration of all the public comments received on the two notices, HUD has made the following selections for proposed tribal membership on the negotiated rulemaking committee:

Steven Angasan, King Salmon Tribe, Naknek, Alaska.

Carol Gore, President/CEO, Cook Inlet Housing Authority, Anchorage, Alaska.

Blake Kazama, President, Tlingit-Haida Regional Housing Authority, Juneau, Alaska.

Marty Shuravloff, Executive Director, Kodiak Island Housing Authority, Kodiak, Alaska.

Michael Cook, Executive Director, United South and Eastern Tribes, Inc., Nashville, Tennessee.

Ray DePerry, Housing Director, Red Cliff Chippewa Housing Authority, Bayfield, Wisconsin.

Robert Durant, Executive Director, White Earth Reservation Housing Authority, Waubun, Minnesota.

Leon Jacobs, Lumbee Tribe of North Carolina, Mystic, Connecticut.

Susan Wicker, Executive Housing Director, Poarch Band of Creek Indians, Atmore, Alabama.

Jason Adams, Executive Director, Salish Kootenai Housing Authority, Pablo, Montana.

Lafe Haugen, Executive Director, Northern Cheyenne Tribal Housing Authority, Lame Deer, Montana.

Rebecca Phelps, Development Specialist, Turtle Mountain Housing Authority, Belcourt, North Dakota.

S. Jack Sawyers, Paiute Indian Tribe of Utah, Cedar City, Utah.

Marguarite Becenti, Interim Director, Umatilla Reservation Housing Authority, Pendleton, Oregon.

Henry Cagey, Chairman, Lummi Nation, Bellingham, Washington.

Larry Coyle, Executive Director, Cowlitz Indian Tribal Housing, Chehalis, Washington.

Karin Foster, Legal Counsel, Yakama Nation Housing Authority, Toppenish, Washington.

Marvin Jones, Manager, Housing Oversight, Cherokee Nation, Tahlequah, Oklahoma.

Thomas McGeisey, Director, Seminole Nation Housing Authority, Wewoka, Oklahoma.

Shawna Pickup, Secretary, Eastern Shawnee Tribe of Oklahoma, Wyandotte, Oklahoma.

Russell Sossamon, Executive Director, Choctaw Nation Housing Authority, Hugo, Oklahoma.

Ervin Keeswood, Member, Navajo Housing Authority Board of Commissioners, Window Rock, Arizona.

Judith Marasco, Executive Director, Yurok Indian Housing Authority, Klamath, California.

Alvin Moyle, The Honorable Chairman, Fallon Business Council, Fallon Paiute-Shoshone Tribe, Fallon, Nevada.

Darlene Tooley, Executive Director, Northern Circle Indian Housing Authority, Ukiah, California.

III. Request for Comments and Committee Nominations

Persons may submit comments on HUD's establishment of the negotiating rulemaking committee and may submit additional nominations for committee membership in accordance with the ADDRESSES section above. Nominations for membership on the Committee must include:

1. The name of your nominee and a description of the interests the nominee would represent;

2. Evidence that your nominee is authorized to represent a tribal government, which may include the tribally designated housing entity of a tribe, with the interests the nominee would represent, so long as the tribe provides evidence that it authorizes such representation;

3. A written commitment that the nominee will actively participate in good faith in the development of the rule; and

4. The reasons that the persons proposed above do not adequately represent the interests of the person submitting the nomination.

IV. Committee Meetings

At this time, HUD has not finalized the schedule and agenda for the committee meetings. HUD will provide administrative support to the committee. Notice of committee meetings will be published in the Federal Register. Meetings of the negotiated rulemaking committee will be open to the public without advance registration. Public attendance may be limited to the space available. Members of the public will be provided with an opportunity to make statements during the meeting, to the extent that time permits, and to file written statements with the committee for its consideration. In the event that the logistics of the committee meetings are changed, HUD will advise the public through Federal Register notice.

Dated: September 15, 2009.
Sandra B. Henriquez,
Assistant Secretary for Public and Indian Housing.

[FR Doc. E9-22835 Filed 9-22-09; 8:45 am]

BILLING CODE 4210-67-P